DEPARTMENT OF AGRICULTURE

Forest Service

Winema and Fremont National Forests Resource Advisory Committee

AGENCY: Forest Service, USDA.

ACTION: Notice of meeting.

SUMMARY: The Winema and Fremont Resource Advisory Committee will hold its second meeting on Monday, February 25, 2002. The meeting will be held in the Gearhart Room of the Lakeview Interagency Office, 1301 South G Street, in Lakeview, Oregon. The meeting will begin at 9:30 am and end at approximately 3:30 pm. The agenda will include a final review and approval of bylaws and operating guidelines, consideration of Title II project proposals submitted by the public and other agencies, and final recommendations for funding of fiscal year 2002 projects.

All Winema and Fremont Resource Advisory Committee Meetings are open to the public. There will be a time for public input and comment. Interested citizens are encouraged to attend.

FOR FURTHER INFORMATION CONTACT: Direct questions regarding this meeting to Bill Aney, Designated Federal Official, USDA, Paisley Ranger District, Fremont National Forest, P.O. Box 67, Paisley, OR 97636 (541) 943-4401 or Chuck Graham, Forest Supervisor at (541) 947-2151 or 883-6714.

Dated: February 7, 2002.
Charles Graham,
Forest Supervisor, Winema and Fremont National Forests.

[FR Doc. 02-3603 Filed 2-13-02; 8:45 am]

BILLING CODE 3410-11-M